FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 012058-003.

Agreement Name: Hoegh Autoliners/K-Line Space Charter Agreement.

Parties: Hoegh Autoliners AS and Kawasaki Kisen Kaisha, Ltd.

Filing Party: John Meade, “K” Line America, Inc.

Synopsis: The amendment eliminates the parties' authority to jointly negotiate for covered services under the Agreement.

Proposed Effective Date: 6/24/2021.

Location: https://www2.fmc.gov/FMC.Agreements.Web/Public/AgreementHistory/397.

Agreement No.: 012440-002.

Agreement Name: WW Ocean and NYK Space Charter Agreement.

Parties: Wallenius Wilhelmsen Ocean AS and Nippon Yusen Kaisha.

Filing Party: Wayne Rohde; Cozen O'Connor.

Synopsis: The amendment revises Article 5.3 of the Agreement to clarify the authority of the parties with respect to joint contracting with third parties.

Proposed Effective Date: 6/25/2021.

Location: https://www2.fmc.gov/FMC.Agreements.Web/Public/AgreementHistory/1914.

Agreement No.: 012206-005.

Agreement Name: Grimaldi/“K” Line Space Charter Agreement.

Parties: Grimaldi Deep Sea S.p.A. and Grimaldi Euromed S.p.A. (acting as a single party) and Kawasaki Kisen Kaisha, Ltd.

Filing Party: John Meade, “K” Line America, Inc.

Synopsis: The amendment eliminates the parties' authority to jointly negotiate for covered services under the Agreement.

Proposed Effective Date: 6/24/2021.

Location: https://www2.fmc.gov/FMC.Agreements.Web/Public/AgreementHistory/253.

Agreement No.: 011836-003.

Agreement Name: WW Ocean/K-Line Space Charter Agreement.

Parties: Wallenius Wilhelmsen Ocean AS and Kawasaki Kisen Kaisha, Ltd.

Filing Party: Wayne Rohde; Cozen O'Connor.

Synopsis: The amendment revises Article 5.3 of the Agreement to clarify the authority of the parties with respect to contracting with third parties.

Proposed Effective Date: 6/25/2021.

Location: https://www2.fmc.gov/FMC.Agreements.Web/Public/AgreementHistory/564.

Agreement No.: 201319-001.

Agreement Name: “K” Line/Kyowa Shipping—Japan/Guam/Saipan Car Carrier Space Charter Agreement.

Parties: Kawasaki Kisen Kaisha, Ltd. and Kyowa Shipping Co., Ltd.

Filing Party: John Meade, “K” Line America, Inc.

Synopsis: The amendment eliminates the parties' authority to jointly negotiate for covered services under the Agreement.

Proposed Effective Date: 6/24/2021.

Location: https://www2.fmc.gov/FMC.Agreements.Web/Public/AgreementHistory/22434.

Agreement No.: 201302-001.

Agreement Name: “K” Line/Liberty Global Logistics LLC U.S. Middle East Car Carrier Space Charter Agreement.

Parties: Kawasaki Kisen Kaisha, Ltd. and Liberty Global Logistics LLC.

Filing Party: John Meade, “K” Line America, Inc.

Synopsis: The amendment eliminates the parties' authority to jointly negotiate for covered services under the Agreement.

Proposed Effective Date: 6/24/2021.

Location: https://www2.fmc.gov/FMC.Agreements.Web/Public/AgreementHistory/22397.

Agreement No.: 012129-004.

Agreement Name: EUKOR/”K” Line Space Charter Agreement.

Parties: EUKOR Car Carriers, Inc. and Kawasaki Kisen Kaisha, Ltd.

Filing Party: John Meade, “K” Line America, Inc.

Synopsis: The amendment eliminates the parties' authority to jointly negotiate for covered services under the Agreement.

Proposed Effective Date: 6/24/2021.

Location: https://www2.fmc.gov/FMC.Agreements.Web/Public/AgreementHistory/378.

Agreement No.: 201301-001.

Agreement Name: “K” Line/Liberty Global Logistics LLC U.S./Japan Car Carrier Space Charter Agreement.

Parties: Kawasaki Kisen Kaisha, Ltd. and Liberty Global Logistics LLC.

Filing Party: John Meade, “K” Line America, Inc.

Synopsis: The amendment eliminates the parties' authority to jointly negotiate for covered services under the Agreement.

Proposed Effective Date: 6/24/2021.

Location: https://www2.fmc.gov/FMC.Agreements.Web/Public/AgreementHistory/22396.

Agreement No.: 201303-001.

Agreement Name: “K” Line/Liberty Global Logistics LLC U.S./Mexico Car Carrier Space Charter Agreement.

Parties: Kawasaki Kisen Kaisha, Ltd. and Liberty Global Logistics LLC.

Filing Party: John Meade, “K” Line America, Inc.

Synopsis: The amendment eliminates the parties' authority to jointly negotiate for covered services under the Agreement.

Proposed Effective Date: 6/24/2021.

Location: https://www2.fmc.gov/FMC.Agreements.Web/Public/AgreementHistory/22398.

Agreement No.: 201304-001.

Agreement Name: “K” Line/Liberty Global Logistics LLC U.S./Belgium/Germany Car Carrier Space Charter Agreement.

Parties: Kawasaki Kisen Kaisha, Ltd. and Liberty Global Logistics LLC.

Filing Party: John Meade, “K” Line America, Inc.

Synopsis: The amendment eliminates the parties' authority to jointly negotiate for covered services under the Agreement.

Proposed Effective Date: 6/24/2021.

Location: https://www2.fmc.gov/FMC.Agreements.Web/Public/AgreementHistory/22399.

Agreement No.: 011707-019.

Agreement Name: Gulf/South America Discussion Agreement.

Parties: BBC Chartering Carriers GmbH & Co. KG and BBC Chartering & Logistic GmbH & Co. KG (acting as a single party); Industrial Maritime Carriers, LLC; and Seaboard Marine Ltd.

Filing Party: Wayne Rohde; Cozen O'Connor.

Synopsis: The amendment adds a new Article 5(h) clarifying the authority of the parties with respect to contracting with third parties.

Proposed Effective Date: 6/28/2021.

Location: https://www2.fmc.gov/FMC.Agreements.Web/Public/AgreementHistory/684.

Agreement No.: 012301-005.

Agreement Name: Siem Car Carrier AS/Volkswagen Logistics Konzernlogistik GMBH & Co. OHG Space Charter Agreement.

Parties: Siem Car Carriers AS and Volkswagen Konzernlogistik GmbH & Co. OHG.

Filing Party: Ashley Craig; Venable LLP.

Synopsis: The amendment updates Article 5.3 of the Agreement to remove joint procurement and joint negotiation authority.

Proposed Effective Date: 6/28/2021.

Location: https://www2.fmc.gov/FMC.Agreements.Web/Public/AgreementHistory/169.

Agreement No.: 201285-001.

Agreement Name: Siem Car Carriers AS/Accordia Shipping LLC Space Charter Agreement.

Parties: Siem Car Carriers AS and Accordia Shipping LLC.

Filing Party: Ashley Craig; Venable LLP.

Synopsis: The amendment updates Article 5.3 of the Agreement to remove joint procurement and joint negotiation authority.

Proposed Effective Date: 6/28/2021.

Location: https://www2.fmc.gov/FMC.Agreements.Web/Public/AgreementHistory/20311.

Agreement No.: 012359-002.

Agreement Name: MOL/Volkswagen Konzernlogistik GmbH & Co. OHG Space Charter Agreement.

Parties: Mitsui O.S.K. Lines Ltd. and Volkswagen Konzernlogistik GmbH & Co. OHG.

Filing Party: Rebecca Fenneman; Jeffrey/Fenneman Law and Strategy PLLC.

Synopsis: The amendment removes any authority of the parties to jointly negotiate or procure terminal services in the United States.

Proposed Effective Date: 6/28/2021.

Location: https://www2.fmc.gov/FMC.Agreements.Web/Public/AgreementHistory/52.

Agreement No.: 012210-002.

Agreement Name: Siem Car Carriers AS/EUKOR Car Carriers Inc. Space Charter Agreement.

Parties: Siem Car Carriers AS and EUKOR Car Carriers, Inc.

Filing Party: Ashley Craig; Venable LLP.

Synopsis: The amendment updates Article 5.3 of the Agreement to remove joint procurement and joint negotiation authority.

Proposed Effective Date: 6/28/2021.

Location: https://www2.fmc.gov/FMC.Agreements.Web/Public/AgreementHistory/260.

Agreement No.: 011842-003.

Agreement Name: Crowley/Dole Space Charter and Sailing Agreement.

Parties: Crowley Latin America Services, LLC and Dole Ocean Cargo Express, LLC.

Filing Party: Wayne Rohde; Cozen O' Connor.

Synopsis: The amendment revises the language of Article 5(c) to clarify that the parties do not have authority to contract jointly with terminals and stevedores.

Proposed Effective Date: 6/29/2021.

Location: https://www2.fmc.gov/FMC.Agreements.Web/Public/AgreementHistory/569.

Agreement No.: 012453-001.

Agreement Name: MOL/NMCC/KL Space Charter Agreement.

Parties: Mitsui O.S.K. Lines, Ltd.; Nissan Motor Car Carrier Co., Ltd.; and Kawasaki Kisen Kaisha, Ltd.

Filing Party: Rebecca Fenneman; Jeffrey/Fenneman Law and Strategy PLLC.

Synopsis: The amendment revises the name of the Agreement; removes WLS as a party to the agreement; and removes all authority to jointly negotiate or procure terminal services in the United States.

Proposed Effective Date: 6/29/2021.

Location: https://www2.fmc.gov/FMC.Agreements.Web/Public/AgreementHistory/1937.

Dated: June 30, 2021.
Rachel E. Dickon,
Secretary.

[FR Doc. 2021-14317 Filed 7-2-21; 8:45 am]

BILLING CODE 6730-02-P